DEPARTMENT OF ENERGY

Federal Energy Regulatory Commission

Combined Notice of Filings #1

Take notice that the Commission received the following electric rate filings:

Docket Numbers: ER10-2839-005.

Applicants: Midland Cogeneration Venture Limited Partnership.

Description: Updated Market Power Analysis of Midland Cogeneration Venture Limited Partnership.

Filed Date: 7/2/18.

Accession Number: 20180702-5281.

Comments Due: 5 p.m. ET 8/31/18.

Docket Numbers: ER18-1106-001.

Applicants: Kestrel Acquisition, LLC.

Description: Notice of Change in Status of Kestrel Acquisition, LLC.

Filed Date: 7/2/18.

Accession Number: 20180702-5287.

Comments Due: 5 p.m. ET 7/23/18.

Docket Numbers: ER18-1923-000.

Applicants: Southwest Power Pool, Inc.

Description: § 205(d) Rate Filing: 1771R11 NPPD NITSA NOA to be effective 6/1/2018.

Filed Date: 7/2/18.

Accession Number: 20180702-5261.

Comments Due: 5 p.m. ET 7/23/18.

Docket Numbers: ER18-1924-000.

Applicants: Sanford Energy Associates, LLC.

Description: Baseline eTariff Filing: Powervine Energy Market Based Rate Tariff to be effective 7/3/2018.

Filed Date: 7/2/18.

Accession Number: 20180702-5263.

Comments Due: 5 p.m. ET 7/23/18.

Docket Numbers: ER18-1925-000.

Applicants: 62SK 8ME LLC.

Description: § 205(d) Rate Filing: Revised Market-Based Rate Tariff Filing to be effective 9/2/2018.

Filed Date: 7/3/18.

Accession Number: 20180703-5002.

Comments Due: 5 p.m. ET 7/24/18.

Docket Numbers: ER18-1926-000.

Applicants: 63SU 8ME LLC.

Description: § 205(d) Rate Filing: Revised Market-Based Rate Tariff Filing to be effective 9/2/2018.

Filed Date: 7/3/18.

Accession Number: 20180703-5003.

Comments Due: 5 p.m. ET 7/24/18.

Docket Numbers: ER18-1927-000.

Applicants: Cuyama Solar, LLC.

Description: § 205(d) Rate Filing: Revised Market-Based Rate Tariff Filing to be effective 9/2/2018.

Filed Date: 7/3/18.

Accession Number: 20180703-5004.

Comments Due: 5 p.m. ET 7/24/18.

Docket Numbers: ER18-1928-000.

Applicants: Gray Hawk Solar, LLC.

Description: § 205(d) Rate Filing: Revised Market-Based Rate Tariff Filing to be effective 9/2/2018.

Filed Date: 7/3/18.

Accession Number: 20180703-5005.

Comments Due: 5 p.m. ET 7/24/18.

Docket Numbers: ER18-1929-000.

Applicants: Portal Ridge Solar B, LLC.

Description: § 205(d) Rate Filing: Revised Market-Based Rate Tariff Filing to be effective 9/2/2018.

Filed Date: 7/3/18.

Accession Number: 20180703-5006.

Comments Due: 5 p.m. ET 7/24/18.

Docket Numbers: ER18-1930-000.

Applicants: Portal Ridge Solar C, LLC.

Description: § 205(d) Rate Filing: Revised Market-Based Rate Tariff Filing to be effective 9/2/2018.

Filed Date: 7/3/18.

Accession Number: 20180703-5007.

Comments Due: 5 p.m. ET 7/24/18.

Docket Numbers: ER18-1931-000.

Applicants: Red Horse III, LLC.

Description: § 205(d) Rate Filing: Revised Market-Based Rate Tariff Filing to be effective 9/2/2018.

Filed Date: 7/3/18.

Accession Number: 20180703-5011.

Comments Due: 5 p.m. ET 7/24/18.

Docket Numbers: ER18-1932-000.

Applicants: TPE Alta Luna, LLC.

Description: § 205(d) Rate Filing: Revised Market-Based Rate Tariff Filing to be effective 9/2/2018.

Filed Date: 7/3/18.

Accession Number: 20180703-5016.

Comments Due: 5 p.m. ET 7/24/18.

Docket Numbers: ER18-1933-000.

Applicants: Red Horse Wind 2, LLC.

Description: § 205(d) Rate Filing: Revised Market-Based Rate Tariff Filing to be effective 9/2/2018.

Filed Date: 7/3/18.

Accession Number: 20180703-5023.

Comments Due: 5 p.m. ET 7/24/18.

Docket Numbers: ER18-1934-000.

Applicants: Alabama Power Company.

Description: § 205(d) Rate Filing: OATT Amendment Filing Relating to Sale of Gulf Power to be effective 12/31/9998.

Filed Date: 7/3/18.

Accession Number: 20180703-5051.

Comments Due: 5 p.m. ET 7/24/18.

Docket Numbers: ER18-1935-000.

Applicants: Alabama Power Company.

Description: § 205(d) Rate Filing: Gulf NITSA Filing to be effective 12/31/9998.

Filed Date: 7/3/18.

Accession Number: 20180703-5052.

Comments Due: 5 p.m. ET 7/24/18.

Docket Numbers: ER18-1936-000.

Applicants: Alabama Power Company.

Description: § 205(d) Rate Filing: Filing of Gulf PTP Transmission Service Agreements (Daniel 1&2 and Scherer 3) to be effective 12/31/9998.

Filed Date: 7/3/18.

Accession Number: 20180703-5053.

Comments Due: 5 p.m. ET 7/24/18.

Docket Numbers: ER18-1937-000.

Applicants: Alabama Power Company.

Description: § 205(d) Rate Filing: Filing of Gulf PTP Transmission Service Agreements (Kingfisher I and II) to be effective 12/31/9998.

Filed Date: 7/3/18.

Accession Number: 20180703-5054.

Comments Due: 5 p.m. ET 7/24/18.

Docket Numbers: ER18-1938-000.

Applicants: Alabama Power Company.

Description: § 205(d) Rate Filing: Transmission Facility Cost Allocation Tariff Amendment Filing to be effective 12/31/9998.

Filed Date: 7/3/18.

Accession Number: 20180703-5056.

Comments Due: 5 p.m. ET 7/24/18.

Docket Numbers: ER18-1939-000.

Applicants: Georgia Power Company.

Description: § 205(d) Rate Filing: Transmission Facility Cost Allocation Tariff Amendment Filing to be effective 12/31/9998.

Filed Date: 7/3/18.

Accession Number: 20180703-5057.

Comments Due: 5 p.m. ET 7/24/18.

Docket Numbers: ER18-1940-000.

Applicants: Gulf Power Company.

Description: § 205(d) Rate Filing: Transmission Facility Cost Allocation Tariff Amendment Filing to be effective 12/31/9998.

Filed Date: 7/3/18.

Accession Number: 20180703-5058.

Comments Due: 5 p.m. ET 7/24/18.

Docket Numbers: ER18-1941-000.

Applicants: Mississippi Power Company.

Description: § 205(d) Rate Filing: Transmission Facility Cost Allocation Tariff Amendment Filing to be effective 12/31/9998.

Filed Date: 7/3/18.

Accession Number: 20180703-5059.

Comments Due: 5 p.m. ET 7/24/18.

Docket Numbers: ER18-1942-000.

Applicants: Alabama Power Company.

Description: § 205(d) Rate Filing: Transition Services Agreement Filing to be effective 12/31/9998.

Filed Date: 7/3/18.

Accession Number: 20180703-5060.

Comments Due: 5 p.m. ET 7/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2018.
Nathaniel J. Davis, Sr.,
Deputy Secretary.

[FR Doc. 2018-14709 Filed 7-9-18; 8:45 am]

BILLING CODE 6717-01-P